ENVIRONMENTAL PROTECTION AGENCY

[EPA-HQ-OPP-2014-0805; FRL-9924-52]

EPA Proposal To Improve Corn Rootworm Resistance Management; Extension of Comment Period

AGENCY: Environmental Protection Agency (EPA).

ACTION: Notice; extension of comment period.

SUMMARY: EPA issued a notice in the Federal Register of January 28, 2015, concerning a proposal to improve the corn rootworm insect resistance management program currently in place for registrations of plant-incorporated protectants (PIP) derived from Bacillus thuringiensis (Bt) in corn. This document extends the comment period for an additional 30 days, from March 16, 2015 to April 15, 2015. A number of stakeholders have expressed a desire to comment on EPA's proposal and have requested additional time to review the proposal and respond.

DATES: Comments, identified by docket identification (ID) number EPA-HQ-OPP-2014-0805, must be received on or before April 15, 2015.

ADDRESSES: Follow the detailed instructions provided under ADDRESSES in the Federal Register document of January 28, 2015 (80 FR 4564) (FRL-9920-16).

FOR FURTHER INFORMATION CONTACT: Robert McNally, Biopesticides and Pollution Prevention Division (7511P), Office of Pesticide Programs, Environmental Protection Agency, 1200 Pennsylvania Ave. NW., Washington, DC 20460-0001; main telephone number: (703) 305-7090; email address: BPPDFRNotices@epa.gov.

SUPPLEMENTARY INFORMATION: This document extends the public comment period established in the Federal Register document of January 28, 2015. In that document, EPA made available for public comment a proposal to improve the corn rootworm insect resistance management program currently in place for registrations of plant-incorporated protectants (PIP) derived from Bacillus thuringiensis (Bt) in corn. The Agency is seeking input on the proposal from potentially affected entities and other stakeholders, including (but not limited to) registrants of pesticides and PIPs for corn, corn growers, crop consultants/agronomists, commodity groups, extension entomologists, independent researchers, and the general public. EPA has received several requests from stakeholders asking to extend the comment period. Requests from crop consultants, grower representatives, and academic researchers indicate that additional time is needed to develop and submit detailed information addressing various aspects of EPA's proposal. Therefore, the Agency has decided to extend the comment period to ensure that all interested stakeholders have an opportunity to comment. EPA is hereby extending the comment period, which was set to end on March 16, 2015, to April 15, 2015.

To submit comments, or access the docket, please follow the detailed instructions provided under ADDRESSES in the Federal Register document of January 28, 2015. If you have questions, consult the person listed under FOR FURTHER INFORMATION CONTACT.

Authority: 7 U.S.C. 136 et seq.

Dated: March 11, 2015.
Robert McNally,
Director, Biopesticides and Pollution Prevention Division, Office of Pesticide Programs.

[FR Doc. 2015-06104 Filed 3-12-15; 4:15 pm]

BILLING CODE 6560-50-P